DEPARTMENT OF LABOR

Employment and Training Administration

Workforce Investment Act; Native American Employment and Training Council

AGENCY: Employment and Training Administration, Labor.

ACTION: Notice of meeting.

SUMMARY: Pursuant to section 10(a)(2) of the Federal Advisory Committee Act (FACA) (Pub. L. 92-463), as amended, and section 166(h)(4) of the Workforce Investment Act (WIA) [29 U.S.C. 2911(h)(4)], notice is hereby given of the next meeting of the Native American Employment and Training Council (NAETC), as constituted under WIA.

DATES: The meeting will begin at 9 a.m. (Eastern Time) on Monday, November 2, 2009, and continue until 4:30 p.m. that day. The meeting will reconvene at 1:30 p.m. on Tuesday, November 3, 2009, and adjourn at 5 p.m. that day. The period from 2:30 p.m. to 4:30 p.m. on November 3, 2009 will be reserved for participation and presentations by members of the public.

ADDRESSES: The meetings will be held at the Brown Hotel, 335 West Broadway, Louisville, Kentucky 40202.

SUPPLEMENTARY INFORMATION: The meeting will be open to the public. Members of the public not present may submit a written statement on or before October 30, 2009, to be included in the record of the meeting. Statements are to be submitted to Mrs. Evangeline M. Campbell, Designated Federal Official (DFO), U.S. Department of Labor, 200 Constitution Avenue, NW., Room S-4209, Washington, DC 20210. Persons who need special accommodations should contact Mr. Craig Lewis at (202) 693-3384, at least two business days before the meeting. The formal agenda will focus on the following topics: (1) U.S. Department of Labor, Indian and Native American Program Update; (2) PY 2009-PY 2010 Strategic Planning; (3) Training and Technical Assistance; (4) Community of Practice; (5) 2010 Census; (6) Native American and Employment Training Council Workgroup Reports; (7) Council Update; and (8) Council Recommendations.

FOR FURTHER INFORMATION CONTACT: Mrs. Evangeline M. Campbell, DFO, Indian and Native American Program, Employment and Training Administration, U.S. Department of Labor, Room S-4209, 200 Constitution Avenue, NW., Washington, DC 20210. Telephone number (202) 693-3737 (VOICE) (this is not a toll-free number).

Signed at Washington, DC, this 29th day of September 2009.
Jane Oates,
Assistant Secretary, Employment and Training Administration.

[FR Doc. E9-23918 Filed 10-2-09; 8:45 am]

BILLING CODE 4510-FN-P